POSTAL REGULATORY COMMISSION

39 CFR Part 3010

[Docket No. R2017-7; Order No. 3990]

Move Update Assessment

AGENCY: Postal Regulatory Commission.

ACTION: Notice.

SUMMARY: The Commission is noticing a recent Postal Service filing requesting its intent to amend prices and classification language for Move Update. This notice informs the public of the filing, invites public comment, and takes other administrative steps.

DATES: Comments are due: July 20, 2017.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Overview

III. Initial Commission Action

IV. Ordering Paragraphs

I. Introduction

In accordance with 39 U.S.C. 3622 and 39 CFR part 3010, the Postal Service filed notice of its intent to amend prices and classification language for Move Update.¹ The Postal Service seeks Commission approval for the introduction of a new method of Move Update verification, corresponding changes to the assessment charge, and other related classification changes. Notice at 1.

¹ United States Postal Service Notice of Market Dominant Price Adjustment and Classification Changes, June 30, 2017 (Notice).

II. Overview

A. Price and Classification Changes

The Postal Service asserts that it provides the information required by 39 CFR 3010.12, and certifies that it will inform the public of the price adjustment as required by 30 CFR 3010.12(a)(3). Id. at 2-3.

The Postal Service states that it plans to introduce a new method of Move Update verification and amend the existing Move Update assessment charge applicable to First-Class Mail letters and flats, and Marketing Mail letters and flats. Id. at 3. The Postal Service describes the new method of Move Update verification as a method that checks all eligible pieces to measure the proportion of pieces that have not been properly updated to reflect a Change of Address order. Id. at 5. The new method utilizes Intelligent Mail barcode technology to verify the address quality of mail submitted via electronic documentation. Id. The Postal Service proposes to increase the Move Update assessment charge, applicable to the number of mailpieces with Change of Address errors exceeding a threshold, from $0.07 to $0.08. Id. at 5-6.

The Postal Service also proposes removing a reference in the Mail Classification Schedule to the Move Update assessment charge from Marketing Mail Parcels, as the charge does not apply to that product. Id. at 8.

The Postal Service also proposes to extend the Full Service Intelligent Mail benefit of no-fee Address Correction Service to mailers who enter qualifying pieces that meet the criteria of the new verification method and meet the Full-Service threshold (95 percent). Id. at 8-9.

B. Price Cap Compliance

The Postal Service states that its financial workpapers show that the percentage changes in each mail class comply with the annual limitation of available price adjustment authority.² Id. at 11.

² Library Reference USPS-LR-2017-7/1, June 30, 2017 (First-Class Mail Workpapers); Library Reference USPS-LR-2017-7/2, June 30, 2017 (Marketing Mail Workpapers); Library Reference USPS-LR-2017-7/3, June 30, 2017 (Special Services Workpapers); Library Reference USPS-LR-2017-7/4, June 30, 2017 (Move Update Census Data); Library Reference USPS-LR-2017-7/NP1, June 30, 2017 (First Class Mail International Workpapers (Nonpublic)).

III. Initial Commission Action

The Commission establishes Docket No. R2017-7 to consider the matters raised by the Notice. The Commission invites comments on whether the Postal Service's filing is consistent with the requirements of 39 U.S.C. 3622 and 39 CFR part 3010. Comments are due July 20, 2017. See 39 CFR 3010.11(a)(5); 3001.15. The public portions of these filings can be accessed via the Commission's Web site (http://www.prc.gov).

The Commission appoints Kenneth E. Richardson to serve as an officer of the Commission to represent the interests of the general public in these proceedings (Public Representative).

IV. Ordering Paragraphs

It is ordered:

1. The Commission establishes Docket No. R2017-7 to consider the matters raised by the Notice.

2. Comments are due July 20, 2017.

3. Pursuant to 39 U.S.C. 505, Kenneth E. Richardson is appointed to serve as an officer of the Commission to represent the interests of the general public in these proceedings (Public Representative).

4. The Acting Secretary shall arrange for publication of this order in the Federal Register.

By the Commission.
Ruth Ann Abrams,
Acting Secretary.

[FR Doc. 2017-14318 Filed 7-7-17; 8:45 am]

BILLING CODE 7710-FW-P